DEPARTMENT OF ENERGY

Federal Energy Regulatory Commission

Combined Notice of Filings

Take notice that the Commission has received the following Natural Gas Pipeline Rate and Refund Report filings:

Docket Numbers: RP11-2282-000.

Applicants: Dominion Transmission, Inc.

Description: Dominion Transmission, Inc. submits tariff filing per 154.204: DTI-CP11-42 Volume 1A Change to be effective 7/22/2011.

Filed Date: 07/19/2011.

Accession Number: 20110719-5114.

Comment Date: 5 p.m. Eastern Time on Monday, August 01, 2011.

Docket Numbers: RP11-2283-000.

Applicants: Texas Gas Transmission, LLC.

Description: Texas Gas Transmission, LLC submits tariff filing per 154.204: Southwestern Amendments to Negotiated Rate Agreements to be effective 7/15/2011.

Filed Date: 07/19/2011.

Accession Number: 20110719-5116.

Comment Date: 5 p.m. Eastern Time on Monday, August 01, 2011.

Docket Numbers: RP11-2284-000.

Applicants: Gulfstream Natural Gas System, LLC.

Description: Gulfstream Natural Gas System, LLC submits tariff filing per 154.204: Negotiated Rate Agreement—FMPA to be effective 8/1/2011.

Filed Date: 07/19/2011.

Accession Number: 20110719-5143.

Comment Date: 5 p.m. Eastern Time on Monday, August 01, 2011.

Docket Numbers: RP11-2285-000.

Applicants: Northern Natural Gas Company.

Description: Northern Natural Gas Company submits tariff filing per 154.204: 20110720 Remove Non-Conforming Contracts to be effective 8/20/2011.

Filed Date: 07/20/2011.

Accession Number: 20110720-5029.

Comment Date: 5 p.m. Eastern Time on Monday, August 01, 2011.

Docket Numbers: RP11-2286-000.

Applicants: Carolina Gas Transmission Corporation.

Description: Carolina Gas Transmission Corporation submits tariff filing per 154.203: Settlement Compliance Filing RP11-2076 to be effective 11/1/2011.

Filed Date: 07/20/2011.

Accession Number: 20110720-5030.

Comment Date: 5 p.m. Eastern Time on Monday, August 01, 2011.

Docket Numbers: RP11-2287-000.

Applicants: Dauphin Island Gathering Partners.

Description: 2011 Refund Report of Dauphin Island Gathering Partners.

Filed Date: 07/19/2011.

Accession Number: 20110719-5235.

Comment Date: 5 p.m. Eastern Time on Monday, August 01, 2011.

Docket Numbers: RP11-2288-000.

Applicants: El Paso Natural Gas Company.

Description: Request for Waiver Determination of El Paso Natural Gas Company.

Filed Date: 07/20/2011.

Accession Number: 20110720-5054.

Comment Date: 5 p.m. Eastern Time on Monday, August 01, 2011.

Docket Numbers: RP11-2289-000.

Applicants: Golden Triangle Storage, Inc.

Description: Golden Triangle Storage, Inc. submits tariff filing per 154.204: GTS Filing of Revised Tariff Records to be effective 9/1/2011.

Filed Date: 07/18/2011.

Accession Number: 20110718-5221.

Comment Date: 5 p.m. Eastern Time on Monday, August 01, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Dated: July 21, 2011.
Nathaniel J. Davis, Sr.,
Deputy Secretary.

[FR Doc. 2011-19089 Filed 7-27-11; 8:45 am]

BILLING CODE 6717-01-P